FEDERAL COMMUNICATIONS COMMISSION

47 CFR Part 73

[MB Docket No. 02-223, DA 02-2231]

Radio Broadcasting Services; Avalon, California

AGENCY: Federal Communications Commission.

ACTION: Final rule; announcement of effective date.

SUMMARY: This document announces the effective date of rules published in the Federal Register on November 20, 2002. The final rules modified the TV Table of Allotments.

DATES: The amendment to 47 CFR 73.622(b) published in the Federal Register at 67 FR 70018, November 20, 2002, is effective February 21, 2013.

FOR FURTHER INFORMATION CONTACT: For additional information contact John Norton, 202 418-2120, Media Bureau, Policy Division.

SUPPLEMENTARY INFORMATION: The Commission published a Report and Order, MB Docket No. 02-223, released September 17, 2002 at 67 FR 70018, November 20, 2002. The final rule amended § 73.622(b), Table of Allotments, under California by adding Avalon, DTV channel 47c. The document stated the amendment will become effective 60 days after the concurrence of the Mexican government is obtained. The Mexican clearance was granted on June 7, 2004.

Federal Communications Commission.
Michelle Carey,
Deputy Chief, Media Bureau.

[FR Doc. 2013-03930 Filed 2-20-13; 8:45 am]

BILLING CODE 6712-01-P